DEPARTMENT OF THE TREASURY

United States Mint

Pricing for the 2016 American Liberty Silver Medals

AGENCY: United States Mint, Department of the Treasury.

ACTION: Notice.

SUMMARY: The United States Mint is announcing the price of the 2016 American Liberty Silver Medals. Each medal will be priced at $34.95. Two silver medals will be offered—one from the United States Mint at West Point and one from the United States Mint at San Francisco.

FOR FURTHER INFORMATION CONTACT: Cathy Olson (Laperle), Marketing Specialist; Numismatic and Bullion Directorate; United States Mint; 801 9th Street NW.; Washington, DC 20220; or call 202-354-7519.

Authority: 31 U.S.C. 5111(a)(2).

Dated: July 29, 2016.
Richard A. Peterson,
Deputy Director for Manufacturing and Quality, United States Mint.

[FR Doc. 2016-18277 Filed 8-1-16; 8:45 am]

BILLING CODE P